DEPARTMENT OF TRANSPORTATION

Maritime Administration

[Docket No. DOT-MARAD-2014-0053]

Request for Comments of a Previously Approved Information Collection

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on December 20, 2013 (Federal Register 77203, Vol. 78, No. 245).

DATES: Comments must be submitted on or before May 9, 2014.

FOR FURTHER INFORMATION CONTACT: Michael Yarrington, Chief, Office of Marine Insurance, MAR-712, Maritime Administration, Room W23-312, U.S. Department of Transportation, 1200 New Jersey Avenue SE., Washington, DC 20590, (202) 366-1915.

SUPPLEMENTARY INFORMATION: Title: War Risk Insurance, Applications and Related Information.

OMB Control Number: 2133-0011.

Type of Request: Renewal of a Previously Approved Information Collection.

Abstract: As authorized by Section 1202, Title XII, Merchant Marine Act, 1936, as amended, the Secretary of the U.S. Department of Transportation may provide war risk insurance adequate for the needs of the waterborne commerce of the United States if such insurance cannot be obtained on reasonable terms from qualified insurance companies operating in the United States. This collection is required for the program.

Affected Public: Vessel owners or charterers interested in participating in MARAD's war risk insurance program.

Estimated Number of Respondents: 20.

Estimated Number of Responses: 20.

Annual Estimated Total Annual Burden Hours: 256.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:93.

Dated: April 1, 2014.
Julie P. Agarwal,
Secretary, Maritime Administration.

[FR Doc. 2014-07900 Filed 4-8-14; 8:45 am]

BILLING CODE 4910-81-P